DEPARTMENT OF THE INTERIOR

Bureau of Indian Affairs

Notice of Intent To Prepare an Environmental Impact Statement for the Mississippi Band of Choctaw Indians' Proposed Fee-to-Trust Transfer and Casino Project, Jackson County, MS

AGENCY: Bureau of Indian Affairs, Interior.

ACTION: Notice.

SUMMARY: This notice advises the public that the Bureau of Indian Affairs (BIA), with the cooperation of the Mississippi Band of Choctaw Indians (MBCI), intends to collect information necessary to prepare an Environmental Impact Statement (EIS) for a proposed 61 acre fee-to-trust land transfer in Jackson County, Mississippi, and for the proposed use of that land, together with an adjacent 40 acre tract of Choctaw Reservation land in the same county, for a casino project. The purpose of the proposed action is to help meet land base and economic needs of the MBCI. This notice also announces a public scoping meeting to identify potential issues, alternatives and content for inclusion in the EIS.

DATES: Written comments on the scope and implementation of this proposal must arrive by November 2, 2006. The public scoping meeting will be held October 18, 2006, from 7 p.m. to 10 p.m., or until all those who wish to make statements have been heard.

ADDRESSES: You may mail, hand carry, or fax written comments to Franklin Keel, Regional Director, Eastern Region, Bureau of Indian Affairs, 545 Marriott Dr., Suite 700, Nashville, Tennessee 37214; fax (615) 564-1701. Electronic submissions via e-mail are not currently available.

The public scoping meeting will be held at Ocean Springs Civic Center, 3730 Bienville Boulevard, Ocean Springs, Mississippi 39564.

FOR FURTHER INFORMATION CONTACT: Kurt Chandler, (615) 564-6832.

SUPPLEMENTARY INFORMATION: The MBCI Reservation is comprised of various trust land parcels located in a number of counties in Mississippi, including Jackson County. The tribal offices are located in Choctaw, Mississippi, in Neshoba County.

The MBCI currently operates two businesses on land in Jackson County, First American Printing & Direct Mail and First American Plastic Molding. Together, before Hurricane Katrina, these facilities employed 100 full-time and 10 part-time workers from the Mississippi Gulf Coast. In August 2005, Hurricane Katrina caused substantial adverse impact to these operations through permanent loss of clients whose businesses were destroyed. It is highly probable that one or both of these operations will therefore be closed in the near future. For this reason, the tribe is urgently seeking to identify potential alternative uses of the land and its existing facilities.

The MBCI has identified a preferred use for this property that includes gaming and related amenities, in an effort to create a positive economic impact for itself and the local economy. The project area is located in Jackson County, immediately southwest of the intersection of State Highway 57 and Interstate 10. The property is bordered by State Highway 57 to the east, vacant undeveloped land to the west, and the Sunplex Industrial Park to the south.

The MBCI proposal is that approximately 61 acres be taken into trust, to be added to approximately 40 acres of adjacent, existing reservation lands for the construction of a casino, hotel and recreational complex. The proposed action encompasses the various federal approvals required to implement the 61 acre fee-to-trust transfer, plus approval of the combined 101 acre tract for gaming use under the Indian Gaming Regulatory Act.

Areas of environmental concern so far identified for analysis in the EIS include traffic, air quality, threatened and endangered species, wildlife habitat and conservation areas, wetlands, water supply, wastewater disposal, solid waste disposal, and socio-economic impacts. Alternatives so far identified for analysis are: (1) The preferred alternative, which would include a Class III casino, hotel, and retail center supported by adequate on-site parking, and which would both maximize potential economic benefits to the MBCI and create tax revenues and jobs for the local community; and (2) no action, under which the MBCI would close the existing businesses and abandon the facilities. The range of issues and alternatives to be addressed in the EIS may be expanded or reduced based on comments received during the scoping process.

Public Comment Availability

Comments, including names and addresses of respondents, will be available for public review at the mailing address shown in the ADDRESSES section, during regular business hours, 8 a.m. to 4:30 p.m., Monday through Friday, except holidays. Individual respondents may request confidentiality. If you wish us to withhold your name and/or address from public review or from disclosure under the Freedom of Information Act, you must state this prominently at the beginning of your written comment. Such requests will be honored to the extent allowed by law. We will not, however, consider anonymous comments. All submissions from organizations or businesses will be made available for public inspection in their entirety.

Authority

This notice is published in accordance with section 1503.1 of the Council on Environmental Quality regulations (40 CFR parts 1500 through 1508), implementing the procedural requirements of the National Environmental Policy Act of 1969, as amended (42 U.S.C. 4321 et seq.), the Department of the Interior Manual (516 DM 1-6), and is in the exercise of authority delegated to the Principal Deputy Assistant Secretary—Indian Affairs by 209 DM 8.

Dated: September 6, 2006.
Michael D. Olsen,
Principal Deputy Assistant Secretary, Indian Affairs.

[FR Doc. E6-16259 Filed 10-2-06; 8:45 am]

BILLING CODE 4310-W7-P